DEPARTMENT OF COMMERCE

International Trade Administration

[A-570-864]

Pure Magnesium in Granular Form From the People's Republic of China: Final Results of Expedited Third Sunset Review of the Antidumping Duty Order

AGENCY: Enforcement and Compliance, International Trade Administration, Department of Commerce.

SUMMARY: As a result of this sunset review, the Department of Commerce (Commerce) finds that revocation of the antidumping duty (AD) order on pure magnesium in granular form from the People's Republic of China (China) would be likely to lead to continuation or recurrence of dumping at the dumping margins identified in the “Final Results of Review” section of this notice.

DATES: Applicable January 9, 2018.

FOR FURTHER INFORMATION CONTACT: Joseph Degreenia, AD/CVD Operations, Office III, Enforcement and Compliance, International Trade Administration, U.S. Department of Commerce, 1401 Constitution Avenue NW, Washington, DC 20230; telephone: (202) 482-6430.

SUPPLEMENTARY INFORMATION:

Background

On September 6, 2017, Commerce published the notice of initiation of the third sunset review of the antidumping duty order ¹ on pure magnesium in granular form from China, pursuant to section 751(c) of the Tariff Act of 1930, as amended (the Act).² On September 18, 2017, Commerce received notice of intent to participate on behalf of US Magnesium LLC (US Magnesium), within the applicable deadline specified in 19 CFR 351.218(d)(1)(i).³ US Magnesium claimed interested party status under section 771(9)(C) of the Act, as a manufacturer of pure magnesium in granular form in the United States.⁴ On October 2, 2017, Commerce received a complete substantive response from the domestic interested party within the 30-day deadline specified in 19 CFR 351.218(d)(3)(i).⁵ We received no substantive response from a respondent interested party in this proceeding. As a result, pursuant to 19 CFR 351.218(e)(1)(ii)(C), Commerce conducted an expedited, 120-day, sunset review of this Order.

¹ See Antidumping Duty Order: Pure Magnesium in Granular Form from the People's Republic of China, 66 FR 57936 (November 19, 2001) (Order).

² See Initiation of Five-Year (“Sunset”) Review, 82 FR 42073 (September 6, 2017).

³ See letter from US Magnesium, “Third Five-Year (“Sunset”) Review of Antidumping Duty Order On Pure Magnesium in Granular Form From The People's Republic Of China/US Magnesium's Notice Of Intent To Participate,” dated September 18, 2017.

⁴ Id.

⁵ See letter from US Magnesium, “Third Five-year (“Sunset”) Review of the Antidumping Duty Order on Pure Magnesium in Granular Form from the People's Republic of China/Response of US Magnesium LLC to the Notice of Initiation,” dated October 2, 2017 (US Magnesium's Substantive Response).

Scope of the Order

There is an existing antidumping duty order on pure magnesium from the People's Republic of China.⁶ The scope of this Order excludes pure magnesium that is already covered by the existing Order on pure magnesium in ingot form, and currently classifiable under item numbers 8104.11.00 and 8104.19.00 of the Harmonized Tariff Schedule of the United States (HTSUS).

⁶ See Notice of Antidumping Duty Orders: Pure Magnesium from the People's Republic of China, the Russian Federation and Ukraine; Notice of Amended Final Determination of Sales at Less Than Fair Value: Antidumping Duty Investigation of Pure Magnesium from the Russian Federation, 60 FR 25691 (May 12, 1995).

The scope of this order includes imports of pure magnesium products, regardless of chemistry, including, without limitation, raspings, granules, turnings, chips, powder, and briquettes, except as noted above.

Pure magnesium includes: (1) Products that contain at least 99.95 percent primary magnesium, by weight (generally referred to as “ultra pure” magnesium); (2) products that contain less than 99.95 percent but not less than 99.8 percent primary magnesium, by weight (generally referred to as “pure” magnesium); (3) chemical combinations of pure magnesium and other material(s) in which the pure magnesium content is 50 percent or greater, but less than 99.8 percent, by weight, that do not conform to an “ASTM Specification for Magnesium Alloy” ⁷ (generally referred to as “off specification pure” magnesium); and (4) physical mixtures of pure magnesium and other material(s) in which the pure magnesium content is 50 percent or greater, but less than 99.8 percent, by weight. Excluded from this Order are mixtures containing 90 percent or less pure magnesium by weight and one or more of certain non-magnesium granular materials to make magnesium-based reagent mixtures. The non-magnesium granular materials of which Commerce is aware used to make such excluded reagents are: Lime, calcium metal, calcium silicon, calcium carbide, calcium carbonate, carbon, slag coagulants, fluorspar, nephaline syenite, feldspar, aluminum, alumina (Al2O3), calcium aluminate, soda ash, hydrocarbons, graphite, coke, silicon, rare earth metals/mischmetal, cryolite, silica/fly ash, magnesium oxide, periclase, ferroalloys, dolomitic lime, and colemanite. A party importing a magnesium-based reagent which includes one or more materials not on this list is required to seek a scope clarification from Commerce before such a mixture may be imported free of antidumping duties.

⁷ The meaning of this term is the same as that used by the American Society for Testing and Materials in its Annual Book of ASTM Standards: Volume 01.02 Aluminum and Magnesium Alloys.

The merchandise subject to this Order is currently classifiable under item 8104.30.00 of the HTSUS. Although the HTSUS subheading is provided for convenience and customs purposes, our written description of the scope of this Order is dispositive.

Analysis of Comments Received

All issues raised in this sunset review are addressed in the Issues and Decision Memorandum, which is hereby adopted by this notice.⁸ The issues discussed in the Issues and Decision Memorandum include the likelihood of continuation or recurrence of dumping and the magnitude of the margins likely to prevail if the Order was revoked. The Issues and Decision Memorandum is a public document and is on file electronically via Enforcement and Compliance's Antidumping and Countervailing Duty Centralized Electronic Service System (ACCESS). ACCESS is available to registered users at https://access.trade.gov and to all parties in the Central Records Unit, room B8024 of the main Department of Commerce building. In addition, a complete version of the Issues and Decision Memorandum can be accessed at http://enforcement.trade.gov/frn/. The signed Issues and Decision Memorandum and the electronic version of the Issues and Decision Memorandum are identical in content.

⁸ See Commerce's memorandum, “Issues and Decision Memorandum for the Final Results of the Expedited Third Sunset Review of the Antidumping Duty Order on Pure Magnesium in Granular Form from the People's Republic of China,” dated concurrently with this notice (Issues and Decision Memorandum).

Final Results of Review

Pursuant to section 751(c)(1) and 752(c)(1) and (3) of the Act, Commerce determines that revocation of the AD Order would be likely to lead to continuation or recurrence of dumping, and that the magnitude of the dumping margins likely to prevail would be weighted-average dumping margins up to 305.56 percent.

Notification Regarding Administrative Protective Order

This notice also serves as the only reminder to parties subject to administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

This sunset review and notice are in accordance with sections 751(c), 752, and 777(i)(1) of the Act.

Dated: January 3, 2018.
Christian Marsh,
Deputy Assistant Secretary for Enforcement and Compliance.

[FR Doc. 2018-00185 Filed 1-8-18; 8:45 am]

BILLING CODE 3510-DS-P